UNIFIED CARRIER REGISTRATION PLAN

Sunshine Act Meetings

TIME AND DATE: January 18, 2024, 12:00 p.m. to 3:00 p.m., Eastern Time.

PLACE: This meeting will be accessible via conference call and via Zoom Meeting and Screenshare. Any interested person may call (i) 1-929-205-6099 (U.S. Toll) or 1-669-900-6833 (U.S. Toll), Meeting ID: 997 6914 3647, to listen and participate in this meeting. The website to participate via Zoom Meeting and Screenshare is https://kellen.zoom.us/meeting/register/tJ0qceCpqjgsHtMsNZs9QvcOAmnQC4sbAjfv.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the December 7, 2023 UCR Board Meeting—UCR Board Chair

For Discussion and Possible Board Action

Draft Minutes from the December 7, 2023, UCR Board meeting will be reviewed. The Board will consider action to approve.

V. Report of FMCSA—FMCSA Representative

The Federal Motor Carrier Safety Administration (FMCSA) will provide a report on any relevant agency activity, including the status of the FMCSA's Notice of Proposed Rulemaking concerning the 2025 UCR Fee Rulemaking and its publication in the Federal Register.

VI. Discussion of UCR Outreach to Canadian and Mexican Carriers Operating in the United States—UCR Board Chair and UCR Executive Director

The UCR Board Chair and UCR Executive Director will lead a discussion on current and possible future UCR outreach to Canadian and Mexican carriers operating in the United States. Discussion will include the form and cost of current outreach efforts to these motor carriers and the form and cost of additional possible outreach.

VI. UCR Chief Legal Officer's Report—UCR Chief Legal Officer

The UCR Chief Legal Officer will report on his activities as Chief Legal Officer of the UCR Plan since the last Board of Directors meeting including, among other things, his efforts to protect the intellectual property assets of the UCR Plan including the issuance of cease-and-desist letters regarding alleged trademark infringement, possible Digital Millennium Copyright Act violations, the initiation of domain name dispute resolution proceedings and the issuance of trademark licenses to participating states.

VII. 2024 Engagement Letter Between the UCR Plan and the Bradley Arant Law Firm—UCR Executive Director and UCR Board Chair

For Discussion and Possible Board Action

An engagement letter between the UCR Plan and the Bradley Arant law firm will be presented to the Board for consideration and approval. The engagement letter covers the legal services performed by Alex Leath, in his capacity as the Chief Legal Officer of the UCR Plan, and the Bradley Arant law firm in support of the Chief Legal Officer's activities. These legal services will be performed on behalf of the UCR Plan during calendar year 2024. The presentation will include the scope of the engagement as well as the amount budgeted to defray the estimated fees and expenses.

VIII. Subcommittee Reports

Audit Subcommittee—UCR Audit Subcommittee Chair

No report.

Finance Subcommittee—UCR Finance Subcommittee Chair and UCR Depository Manager

Distribution From the UCR Depository for the 2024 Registration Year and Update on Selection of 2022 External Auditor—UCR Depository Manager

The UCR Depository Manager will provide an update on the timing of a distribution of the fees from the UCR Depository to states that have not yet reached their revenue entitlements for the 2024 registration year. In addition, the UCR Depository Manager will give an update on the selection of an audit firm to conduct the 2022 external audit.

Education and Training Subcommittee—UCR Education and Training Subcommittee Chair

Update on Current and Future Training Initiatives—UCR Education and Training Subcommittee Chair

The UCR Education and Training Subcommittee Chair will provide an update on current and planned future training initiatives, to include website content review, website optimization strategy, NRS modules, and UCR purpose and subcommittee videos.

Industry Advisory Subcommittee—UCR Industry Advisory Subcommittee Chair

Update on Current Initiatives—UCR Industry Advisory Subcommittee Chair

The UCR Industry Advisory Subcommittee Chair will provide an update on current and planned initiatives, to include the development of a video series intended to increase participation in the UCR focused on brokers, motor carriers, and bus operators.

Enforcement Subcommittee—UCR Enforcement Subcommittee Chair

Update on Current Initiatives—UCR Enforcement Subcommittee Chair

The UCR Enforcement Subcommittee Chair will provide an update on current and planned initiatives to include a review of enforcement rates, creation of standards for annual UCR enforcement awards, conducting biannual enforcement blitzes, roadside enforcement of carriers who are under-registered, and creation of an enforcement presentation.

Dispute Resolution Subcommittee—UCR Dispute Resolution Subcommittee Chair

No report.

IX. Contractor Reports—UCR Board Chair

UCR Executive Director Report

The UCR Executive Director will provide a report covering his recent activity for the UCR Plan including any changes in the dates of UCR meetings in 2024.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

X. Other Business—UCR Board Chair

The UCR Board Chair will call for any other business, old or new, from the floor.

XI. Adjournment—UCR Board Chair

The UCR Board Chair will adjourn the meeting.

The agenda will be available no later than 5:00 p.m. Eastern time, January 11, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-00930 Filed 1-12-24; 4:15 pm]

BILLING CODE P